Title 3—

The President

Proclamation 9403 of March 1, 2016

Read Across America Day, 2016

By the President of the United States of America

A Proclamation

From a child's first foray into the depths of a story to an adult's escape into a world of words, reading plays an integral role in our lives. Works of fiction and non-fiction alike pique interest and inspiration and shape our understanding of each other and ourselves, teaching us lessons in kindness and humility, responsibility and respect. The moment we persuade a child to pick up a book for the first time we change their lives forever for the better, and on Read Across America Day, we recommit to getting literary works into our young peoples' hands early and often.

March 2 is also the birthday of one of America's revered wordsmiths. Theodor Seuss Geisel—or Dr. Seuss—used his incredible talent to instill in his most impressionable readers universal values we all hold dear. Through a prolific collection of stories, he made children see that reading is fun, and in the process, he emphasized respect for all; pushed us to accept ourselves for who we are; challenged preconceived notions and encouraged trying new things; and by example, taught us that we are limited by nothing but the range of our aspirations and the vibrancy of our imaginations. And for older lovers of literature, he reminded us not to take ourselves too seriously, creating wacky and wild characters and envisioning creative and colorful places.

Books reveal unexplored universes and stimulate curiosity, and in underserved communities, they play a particularly important role in prompting inquisition and encouraging ambition. Last month, the First Lady announced the launch of Open eBooks, a new project that will unlock a world of learning and possibility for millions of American children and provide over $250 million worth of reading material to students who need it most. As we work to get every child engrossed in literature, we honor the many people who devote their lives and careers to carrying forward this important cause—including our librarians, educators, and parents. We can all get lost in a good read, and we owe it to rising learners to give them the chance to experience that same enjoyment and fulfillment.

Today, and every day, let us celebrate the power of reading by promoting literacy and supporting new opportunities for students to plunge into the pages of a book. As Dr. Seuss noted, “The more that you read, the more things you will know. The more that you learn, the more places you'll go.” Together, we can help all children go plenty of places along their unending journey for knowledge and ensure everyone can find joy and satisfaction in the wonders of the written word.

NOW, THEREFORE, I, BARACK OBAMA, President of the United States of America, by virtue of the authority vested in me by the Constitution and the laws of the United States, do hereby proclaim March 2, 2016, as Read Across America Day. I call upon children, families, educators, librarians, public officials, and all the people of the United States to observe this day with appropriate programs, ceremonies, and activities.

IN WITNESS WHEREOF, I have hereunto set my hand this first day of March, in the year of our Lord two thousand sixteen, and of the Independence of the United States of America the two hundred and fortieth.

[FR Doc. 2016-05068

Filed 3-3-16; 11:15 am]

Billing code 3295-F6-P